DEPARTMENT OF COMMERCE

National Oceanic and Atmospheric Administration

[I.D. 030507D]

Schedules for Atlantic Shark Identification Workshops and Protected Species Safe Handling, Release, and Identification Workshops

AGENCY: National Marine Fisheries Service (NMFS), National Oceanic and Atmospheric Administration (NOAA), Commerce.

ACTION: Notice of public workshops

SUMMARY: NMFS announces Atlantic Shark Identification Workshops and Protected Species Safe Handling, Release, and Identification Workshops to be held in April, May, and June of 2007. These workshops provide certification opportunities and are required for fishermen and shark dealers to meet new regulatory requirements and maintain valid permits. The Atlantic Shark Identification Workshops are mandatory for all federally permitted Atlantic shark dealers. The Protected Species Safe Handling, Release, and Identification Workshops are mandatory for vessel owners and operators who use bottom longline, pelagic longline, or gillnet gear, and have also been issued shark or swordfish limited access permits. Additional free workshops will be held throughout 2007.

DATES: The Atlantic Shark Identification Workshop will be held April 26, May 24, and June 14, 2007.

The Protected Species Safe Handling, Release, and Identification Workshop will be held April 11, 18, 25, May 2, 22, 23, and June 6, 20, 28, 2007. See SUPPLEMENTARY INFORMATION for further details.

ADDRESSES: The Atlantic Shark Identification Workshop will be held in Charleston, SC; Richmond, TX; and, Foxboro, MA.

The Protected Species Safe Handling, Release, and Identification Workshop will be held in Ocean City, MD; Norfolk, VA; Wilmington, NC; Marathon, FL; New Orleans, LA; Moss Point, MS; Naples, FL; Manahawkin, NJ; and, Daytona Beach, FL. See SUPPLEMENTARY INFORMATION for further details on workshop locations.

The workshop schedules, registration information, and a list of frequently asked questions regarding these workshops are posted on the internet at: http://www.nmfs.noaa.gov/sfa/hms/workshops/.

FOR FURTHER INFORMATION CONTACT: Greg Fairclough by phone:(727) 824-5399, or by fax: (727) 824-5398.

SUPPLEMENTARY INFORMATION: Effective December 31, 2007, an Atlantic shark dealer may not receive, purchase, trade, or barter for Atlantic shark unless a valid Atlantic Shark Identification workshop certificate is on the premises of each business listed under the shark dealer permit (71 FR 58057; October 2, 2006). Dealers who attend and successfully complete a workshop will be issued a certificate for each place of business that is permitted to receive sharks. Dealers may send a proxy to a Atlantic Shark Identification Workshop, however, if a dealer opts to send a proxy, the dealer must designate a proxy for each place of business covered by the dealer's permit. Only one certificate will be issued to each proxy. A proxy must be a person who: is currently employed by a place of business covered by the dealer's permit; is a primary participant in the identification, weighing, and/or first receipt of fish as they are offloaded from a vessel; and fills out dealer reports. Additionally, after December 31, 2007, an Atlantic shark dealer may not renew a Federal shark dealer permit unless a valid Atlantic Shark Identification Workshop certificate has been submitted with the permit renewal application.

Effective January 1, 2007, shark limited access and swordfish limited access permit holders must submit a copy of their Protected Species Safe Handling, Release, and Identification Workshop certificate in order to renew either permit (71 FR 58057; October 2, 2006). As such, vessel owners whose permits expire in mid-2007 must attend one of the free workshops offered in April, May, or June 2007. New shark and swordfish limited access permit applicants must attend a Protected Species Safe Handling, Release, and Identification Workshop and must submit a copy of their workshop certificate before such permits will be issued.

In addition to certifying permit holders, all longline and gillnet vessel operators fishing on a vessel issued a limited access swordfish or limited access shark permit are required to attend the Protected Species Safe Handling, Release, and Identification workshops. Vessels that have been issued a limited access swordfish or limited access shark permit may not fish unless both the vessel owner and operator have valid workshop certificates. Vessel operators must possess on board the vessel valid workshop certificates for both the vessel owner and the operator at all times.

Workshop Dates, Times, And Locations

Atlantic Shark Identification Workshop

1. April 26, 2007, from 9 a.m. - 3 p.m. Center for Coastal Environmental Health and Biomolecular Research, 219 Fort Johnson Drive, Charleston, SC 29412.

2. May 24, 2007, from 9:30 a.m. - 3:30 p.m. George Memorial Library, 1001 Golfview Drive, Richmond, TX 77469.

3. June 14, 2007, from 10:30 a.m. - 4 p.m. Boyden Library, 10 Bird Street, Foxboro, MA 02035.

Protected Species Safe Handling, Release, and Identification Workshop

1. April 11, 2007, from 9 a.m. - 5 p.m. Holiday Inn, 6600 Coastal Highway, Ocean City, MD 21842.

2. April 18, 2007, from 9 a.m. - 5 p.m. Hilton Norfolk Airport, 1500 North Military Highway, Norfolk, VA 23502.

3. April 25, 2007, from 9 a.m. - 5 p.m. Hilton Garden Inn at Mayfaire, 6745 Rock Spring Road, Wilmington, NC 28405.

4. May 2, 2007, from 9 a.m. - 5 p.m. Sombrero Cay Club Resort & Marina, 19 Sombrero Blvd., Marathon, FL 33050.

5. May 22, 2007, from 9 a.m. - 5 p.m. Hotel Monteleone, 214 Royal Street, New Orleans, LA 70130.

6. May 23, 2007, from 9 a.m. - 5 p.m. Pelican Landing Conference & Convention Center, 6217 Highway 613, Moss Point, MS 39563.

7. June 6, 2007, from 9 a.m. - 5 p.m. Doubletree Guest Suites Naples, 12200 Tamiami Trail North, Naples, FL 34110.

8. June 20, 2007, from 9 a.m. - 5 p.m. Holiday Inn, 151 Route 72 East, Manahawkin, NJ 08050.

9. June 28, 2007, from 9 a.m. - 5 p.m. The Shores Resort & Spa, 2637 South Atlantic Avenue, Daytona Beach, FL 32118.

Registration

To register for a scheduled Atlantic Shark Identification Workshop, please contact Eric Sander by email at esander@peoplepc.com or by phone at (386) 852-8588.

To register for a scheduled Protected Species Safe Handling, Release, and Identification Workshop, please contact Aquatic Release Conservation ((877) 411-4272), 1870 Mason Ave., Daytona Beach, FL 32117.

Grandfathered Permit Holders

Participants in the industry-sponsored workshops on safe handling and release of sea turtles that were held in Orlando, FL (April 8, 2005) and in New Orleans, LA (June 27, 2005) were issued a NOAA workshop certificate in December 2006 that will be valid for three years. Grandfathered permit holders must include a copy of this certificate when renewing limited access shark and limited access swordfish permits each year. Failure to provide a valid NOAA workshop certificate may result in a permit denial.

Registration Materials

To ensure that workshop certificates are linked to the correct permits, participants will need to bring the following items with them to the workshop:

Atlantic Shark Identification Workshop

Atlantic shark dealer permit holders must bring proof that the individual is an agent of the business (such as articles of incorporation), a copy of the applicable permit, and proof of identification.

Atlantic shark dealer proxies must bring documentation from the shark dealer acknowledging that the proxy is attending the workshop on behalf of the Atlantic shark dealer, a copy of the appropriate permit, and proof of identification.

Protected Species Safe Handling, Release, and Identification Workshop

Individual vessel owners must bring a copy of the appropriate permit(s), a copy of the vessel registration or documentation, and proof of identification.

Representatives of a business owned or co-owned vessel must bring proof that the individual is an agent of the business (such as articles of incorporation), a copy of the applicable permit(s), and proof of identification.

Vessel operators must bring proof of identification.

Workshop Objectives

The Atlantic Shark Identification Workshops are designed to reduce the number of unknown and improperly identified sharks reported in the dealer reporting form and increase the accuracy of species-specific dealer-reported information. Reducing the number of unknown and improperly identified sharks will improve quota monitoring and the data used in stock assessments. These workshops will train shark dealer permit holders or their proxies to properly identify Atlantic shark carcasses.

The Protected Species Safe Handling, Release, and Identification Workshops are designed to teach longline and gillnet fishermen the required techniques for the safe handling and release of entangled and/or hooked protected species, such as sea turtles, marine mammals, and smalltooth sawfish. Identification of protected species will also be taught at these workshops in an effort to improve reporting. Additionally, individuals attending these workshops will gain a better understanding of the requirements for participating in these fisheries. The overall goal for these workshops is to provide participants the skills needed to reduce the mortality of protected species, which may prevent additional regulations on these fisheries in the future.

Authority: 16 U.S.C. 971 et seq. and 1801 et seq.

Dated: March 8, 2007.
James P. Burgess,
Acting Director, Office of Sustainable Fisheries, National Marine Fisheries Service.

[FR Doc. E7-4560 Filed 3-12-07; 8:45 am]

BILLING CODE 3510-22-S